FEDERAL DEPOSIT INSURANCE CORPORATION

Notice of Agency Meeting; Sunshine Act

Pursuant to the provisions of the “Government in the Sunshine Act” (5 U.S.C. 552b), notice is hereby given that the Federal Deposit Insurance Corporation's Board of Directors will meet in open session at 10 a.m. on Friday, March 18, 2005, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Interim Final Rule Amending FDIC Part 335 to Conform with Requirements of the Securities and Exchange Commission.

Memorandum and resolution re: CRA Technical Amendments: Joint Final Rule.

Discussion Agenda

Memorandum and resolution re: Final Rule: FDIC Part 347—International Banking and Part 303—Filing Procedures (Subpart J—International Banking).

Memorandum and resolution re: Notice and Request for Comment: Interagency Proposal on the Classification of Commercial Credit Exposures.

Memorandum and resolution re: Interagency Guidance on Response Programs for Unauthorized Access to Customer Information and Customer Notice.

The meeting will be held in the Board Room on the sixth floor of the FDIC Building located at 550 17th Street, NW., Washington, DC.

The FDIC will provide attendees with auxiliary aids (e.g., sign language interpretation) required for this meeting. Those attendees needing such assistance should call (202) 416-2089 (Voice); or (202) 416-2007 (TTY), to make necessary arrangements.

Requests for further information concerning the meeting may be directed to Ms. Valerie J. Best, Assistant Executive Secretary of the Corporation, at (202) 898-7043.

Dated: March 11, 2005.
Federal Deposit Insurance Corporation.
Valerie J. Best,
Assistant Executive Secretary.

[FR Doc. 05-5129 Filed 3-11-05; 10:09 am]

BILLING CODE 6714-01-M